DEPARTMENT OF THE TREASURY

Internal Revenue Service

Advisory Committee to the Internal Revenue Service; Meeting

AGENCY: Internal Revenue Service (IRS), Treasury.

ACTION: Notice.

SUMMARY: The Information Reporting Program Advisory Committee (IRPAC) will hold a public meeting on Thursday, November 16, 2006.

FOR FURTHER INFORMATION CONTACT: Ms. Caryl Grant, National Public Liaison, CL:NPL:SRM, CP6 4-39, 1111 Constitution Avenue, NW., Washington, DC 20224. Telephone: 202-927-3641 (not a toll-free number). E-mail address: *public_liaison@irs.gov.

SUPPLEMENTARY INFORMATION: Notice is hereby given pursuant to section 10(a)(2) of the Federal Advisory Committee Act, 5 U.S.C. App. (1988), a public meeting of the IRPAC will be held on Thursday, November 16, 2006 from 9 a.m. to 1 p.m. in Room B&C, 2nd Floor, Mint Building, 801 9th Street, NW., Washington, DC 20005. Issues to be discussed include: Electronic Transcript Delivery and Notice Delivery; FIRE, Publication 1212, List of Original Issue Discount Instruments, Enhancements; Widely Held Fixed Investment Trusts Directory; Nonresident Alien Withholding and Reporting; Tax exempt interest reporting; Truncated TINs; Basis Reporting; Internet Auction Sales; Report of Foreign Bank and Financial Accounts; Complexity of Employment Tax Reporting and Improvements to Be Made; Increase in the Form 1099-MISC Reporting Threshold form Medical and Health Care Payments; FBAR; Form 990 and Schedule A; Form 1098-T, Designated Roth Contributions and Distributions; Tax Reporting of Retirement Accounts, Including IRAs that are Closed due to Escheatment and/or a Customer Identification Program (CIP) Failure; Employee Plans Compliance Resolution System (EPCRS); Form 5500, Schedule SSA, Form 5500, Schedule R; SIMPLE IRA Plan Compliance Communication Effort; Practitioner Reference Guide; Self Employed Worksheet for Health Insurance Adjustment to Income; Reporting of Social Security Benefits on Form 1040/1040A; Publication 2184; Form 1099C—Cancellation of Debt/1099A Acquisition and Abandonment of Secured Property. Reports from the four IRPAC sub-groups, Tax Exempt & Government Entities, Large and Mid-size Business, Small Business/Self-Employed, and Wage & Investment, will also be presented and discussed. Last minute agenda changes may preclude advance notice. Due to limited seating and security requirements, please call or e-mail Caryl Grant to confirm your attendance. Ms. Grant can be reached at 202-927-3641 or Caryl.S.Grant@irs.gov. Attendees are encouraged to arrive at least 30 minutes before the meeting begins to allow sufficient time for purposes of security clearance. Should you wish the IRPAC to consider a written statement, please call 202-927-3641, or write to: Internal Revenue Service, Office of National Public Liaison, CL:NPL:SRM, CP6 4-39, 1111 Constitution Avenue, NW., Washington, DC 20224 or e-mail: *public_liaison@irs.gov.

Dated: October 19, 2006.
Cynthia Vanderpool,
Branch Chief, National Public Liaison.

[FR Doc. E6-17905 Filed 10-25-06; 8:45 am]

BILLING CODE 4830-01-P